DEPARTMENT OF COMMERCE

Foreign-Trade Zones Board

[Docket 57-2010]

Foreign-Trade Zone 148—Knoxville, Tennessee, Toho Tenax America, Inc., Subzone 148C (Carbon Fiber Manufacturing Authority); Extension of Comment Period on New Evidence

The comment period on new evidence provided by Toho Tenax America, Inc. (TTA), in response to the examiner's preliminary recommendation not to authorize TTA to manufacture carbon fiber for the U.S. market at this time, is being extended to February 11, 2013, to allow interested parties additional time in which to comment (77 FR 73978, 12/12/2012). Rebuttal comments may be submitted during the subsequent 15-day period, until February 26, 2013. Submissions (original and one electronic copy) shall be addressed to the Board's Executive Secretary at: Foreign-Trade Zones Board, U.S. Department of Commerce, Room 21013, 1401 Constitution Ave. NW., Washington, DC 20230.

FOR FURTHER INFORMATION CONTACT: Diane Finver at Diane.Finver@trade.gov or (202) 482-1367.

Dated: December 18, 2012.
Elizabeth Whiteman,
Acting Executive Secretary.

[FR Doc. 2012-30943 Filed 12-21-12; 8:45 am]

BILLING CODE P